DEPARTMENT OF ENERGY

Federal Energy Regulatory Commission

[Project No. 2788-017]

Goodyear Lake Hydro, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 2788-017.

c. Date filed: February 27, 2017.

d. Applicant: Goodyear Lake Hydro, LLC (Goodyear Lake Hydro).

e. Name of Project: Colliersville Hydroelectric Project.

f. Location: On the North Branch of the Susquehanna River, in the Town of Milford, Otsego County, New York. The project does not occupy lands of the United States.

g. Filed Pursuant to: Federal Power Act 16 U.S.C. 791 (a)-825(r).

h. Applicant Contact: Mr. Kevin Webb, Hydro Licensing Manager; Enel Green Power North America, Inc., 100 Brickstone Square, Suite 300, Andover, MA 01810; (978) 935-6039; kevin.webb@enel.com.

i. FERC Contact: Emily Carter, (202) 502-6512 or emily.carter@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 28, 2017.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2788-017.

m. The application is not ready for environmental analysis at this time.

n. The existing Colliersville Hydroelectric Project consists of: (1) A 200-foot-long, 35-foot-high reinforced-concrete Ambursen-type dam; (2) a 364-acre reservoir (Goodyear Lake) with a gross storage capacity of 7,800 acre-feet at a normal pool elevation of 1,150.22 feet National Geodetic Vertical Datum of 1929; (3) a 550-foot-long reinforced concrete power canal, approximately 50 feet wide and 6 feet deep at the head gates, extending from a head gate structure adjacent to the dam (i.e., the intake) to the powerhouse; (4) a 103-foot-long by 33-foot-wide reinforced concrete powerhouse with trash racks with a clear spacing of 1.5 inches, and containing two turbines rated at 850 horsepower (HP) and 1150 HP, and two generators having a rated capacity of 650 kilowatts (kW) and 850 kW, respectively; (5) a 300-foot-long and approximately 50- to 60-foot-wide tailrace; (6) approximately 80-foot-long, 4.16-kilovolt underground generator leads or transmission lines from the powerhouse to an adjacent substation owned by the New York State Electric and Gas Corporation; and (7) appurtenant facilities.

Goodyear Lake Hydro operates the project in a run-of-river mode. The project experiences substantial seasonal and annual variations in generation, and generates an annual average of 5,985 megawatt-hours. Goodyear Lake Hydro proposes to continue to operate the project in run-of-river mode.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary Hydro Licensing Schedule. Revisions to the schedule will be made as appropriate.

Issue Deficiency Letter (if necessary) April 2017

Request Additional Information April 2017

Issue Acceptance Letter July 2017

Issue Scoping Document 1 for comments July 2017

Request Additional Information (if necessary) September 2017

Issue Scoping Document 2 November 2017

Issue notice of ready for environmental analysis December 2017

Commission issues EA or draft EA June 2018

Comments on EA or draft EA July 2018

Commission issues final EA October 2018

Final amendments to the application must be filed with the Commission no later than 30 days from the issuance date of the notice of ready for environmental analysis.

Dated: March 10, 2017.
Kimberly D. Bose,
Secretary.

[FR Doc. 2017-05311 Filed 3-16-17; 8:45 am]

BILLING CODE 6717-01-P